DEPARTMENT OF COMMERCE

International Trade Administration

[A-821-811]

Termination of the Suspension Agreement on Solid Fertilizer Grade Ammonium Nitrate From the Russian Federation and Notice of Antidumping Duty Order

AGENCY: Import Administration, International Trade Administration, Department of Commerce.

SUMMARY: On March 3, 2011, the Department of Commerce (“the Department”) received a letter from the Ministry of Economic Development (“MED”) of the Russian Federation (“Russia”) dated February 22, 2011, that had been sent to the United States Embassy in Moscow for transmittal to the Department concerning the Agreement Suspending the Antidumping Duty (“AD”) Investigation on Solid Fertilizer Grade Ammonium Nitrate from the Russian Federation (“the Agreement”). In that letter, the MED stated that it was withdrawing from the Agreement. In accordance with Section X.C. of the Agreement, termination of the Agreement shall be effective 60 days after notice of termination of the Agreement is given to the Department. Pursuant to section 734(g) of the Tariff Act of 1930, as amended (“the Act”), the underlying investigation was continued following the signature of the Agreement, resulting in an affirmative determination of dumping resulting in material injury to a domestic industry. Therefore, the Department is terminating the Agreement and issuing an AD order, effective May 2, 2011 (60 days from when the Department received notice of MED's request for termination). The Department also will direct suspension of liquidation to begin on that date.

DATES: Effective Date: May 2, 2011.

FOR FURTHER INFORMATION CONTACT: Judith Wey Rudman or Julie Santoboni, Import Administration, International Trade Administration, U.S. Department of Commerce, 14th Street and Constitution Avenue, NW., Washington, DC 20230; telephone: (202) 482-0192 or (202) 482-3063, respectively.

SUPPLEMENTARY INFORMATION:

Background

On August 12, 1999, the Department initiated an AD investigation under section 732 of the Act to determine whether imports of solid fertilizer grade ammonium nitrate (“ammonium nitrate”) from Russia were being, or were likely to be, sold in the United States at less than fair value. See Initiation of Antidumping Duty Investigation: Solid Fertilizer Grade Ammonium Nitrate from the Russian Federation, 64 FR 45236 (August 19, 1999). On September 15, 1999, the International Trade Commission (“ITC”) published its affirmative preliminary injury determination. (See Certain Ammonium Nitrate from Russia, Investigation No. 731-TA-856 (Preliminary), 64 FR 50103 (September 15, 1999)). On January 7, 2000, the Department published its preliminary determination that ammonium nitrate was being, or was likely to be, sold in the United States at less than fair value. See Notice of Preliminary Determination of Sales at Less Than Fair Value: Solid Fertilizer Grade Ammonium Nitrate from the Russian Federation, 65 FR 1139 (January 7, 2000).

The Department suspended the AD investigation on ammonium nitrate from Russia, effective May 19, 2000 (See Suspension of Antidumping Duty Investigation: Solid Fertilizer Grade Ammonium Nitrate from the Russian Federation, 65 FR 37759 (June 16, 2000)). The basis for this action was an agreement between the Department and the Ministry of Trade of the Russian Federation (“MOT”) (the MOT was the predecessor to the MED) accounting for substantially all imports of ammonium nitrate from Russia, wherein the MOT agreed to restrict exports of ammonium nitrate from all Russian producers/exporters to the United States and to ensure that such exports were sold at or above the agreed reference price. Thereafter, pursuant to a request by the petitioner, the Committee for Fair Ammonium Nitrate Trade (“COFANT”), the Department completed its investigation and published its final determination of sales at less than fair value. See Notice of Final Determination of Sales at Less Than Fair Value; Solid Fertilizer Grade Ammonium Nitrate From the Russian Federation, 65 FR 42669 (July 11, 2000) (“Final Determination”). In its Final Determination, the Department calculated weighted-average dumping margins of 253.98 percent for Nevinnomyssky Azot, a respondent company in the investigation, and as the Russia-wide rate. The ITC published its final affirmative injury determination on August 21, 2000 (See Certain Ammonium Nitrate from Russia, Investigation No. 731-TA-856 (Final), 65 FR 50179 (August 21, 2000) (“ITC Final Injury Determination”)).

On March 31 and April 1, 2005, respectively, the ITC instituted, and the Department initiated, a five-year sunset review of the suspended AD investigation on ammonium nitrate from Russia. The Department concluded that termination of the suspended AD investigation would likely lead to continuation or recurrence of dumping and the ITC concluded that termination of the suspended investigation would be likely to lead to continuation or recurrence of material injury to an industry in the United States within a reasonably foreseeable time. See Final Results of Five-Year Sunset Review of Suspended Antidumping Duty Investigation on Ammonium Nitrate from the Russian Federation, 71 FR 11177 (March 6, 2006) and Ammonium Nitrate from Russia, Investigation No. 731-TA-856 (Review), 71 FR 16177 (March 30, 2006), respectively. On March 1, 2011, the Department initiated and the ITC instituted a (second) five-year sunset review of the ammonium nitrate suspended investigation. See Notice of Initiation of Five-Year (“Sunset”) Reviews, 76 FR 11202 (March 1, 2011) and Ammonium Nitrate from Russia, Investigation No. 731-TA-856 (Second Review), 76 FR 11273 (March 1, 2011).

On March 3, 2011, the Department received a letter from MED dated February 22, 2011, that had been sent to the United States Embassy in Moscow for transmittal to the Department concerning the Agreement. In that letter, the MED stated that it was withdrawing from the Agreement, effective 60 days after notice of termination.

Scope of the Order

The products covered by the order include solid, fertilizer grade ammonium nitrate products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this order is classified in the Harmonized Tariff Schedule of the United States (“HTSUS”) at subheading 3102.30.00.00. Although the HTSUS subheadings are provided for convenience and customs purposes, the written description of the merchandise within the scope is dispositive.

Termination of Suspended Investigation and Issuance of AD Order

Article X.C of the Agreement states:

MOT or DOC may terminate this Agreement at any time upon written notice to the other party. Termination shall be effective 60 days after such notice is given. Upon termination of this Agreement, the provisions of U.S. antidumping law and regulations shall apply.

As noted above, the underlying investigation in this proceeding was continued pursuant to section 734(g) of the Act, following the acceptance of the Agreement. The Department made a final affirmative AD determination, and the ITC found material injury. See Final Determination and ITC Final Injury Determination. Therefore, in accordance with section 735(c) of the Act, the Department will issue an antidumping duty order and instruct U.S. Customs and Border Protection (“CBP”) to suspend liquidation of entries of subject merchandise, effective May 2, 2011, which is 60 days from the date the Department received the letter from MED stating its withdrawal from the Agreement.

Antidumping Duty Order

In accordance with section 736(a)(1) of the Act, the Department will direct CBP to assess, beginning on May 2, 2011, an antidumping duty equal to the weighted-average AD margins listed below.

We will instruct CBP to require a cash deposit for each entry equal to the AD weighted-average margin rates found in the Department's July 11, 2000, Final Determination, as listed below. These suspension-of-liquidation instructions will remain in effect until further notice. The “Russia-wide” rate applies to all producers and exporters of subject merchandise not specifically listed. The final AD ad valorem rates are as follows:

Manufacturer/exporter | Weighted- average margin (percent)
JSC Nevinnomyssky Azot | 253.98
Russia-wide | 253.98

This notice constitutes the AD order with respect to ammonium nitrate from Russia, pursuant to section 736(a) of the Act. Interested parties may contact the Department's Central Records Unit, room 7046 of the main Commerce building, for copies of an updated list of AD orders currently in effect. This order is issued and published in accordance with section 736(a) of the Act and 19 CFR 351.211(b).

Dated: April 21, 2011.
Ronald K. Lorentzen,
Deputy Assistant Secretary for Import Administration.

[FR Doc. 2011-10176 Filed 4-26-11; 8:45 am]

BILLING CODE 3510-DS-P